DEPARTMENT OF ENERGY

Federal Energy Regulatory Commission

[Project No. 14876-002]

Western Minnesota Municipal Power Agency; Notice of Effective Date of Withdrawal of Notice of Intent

On June 28, 2022, Western Minnesota Municipal Power Agency (Western Minnesota Power) filed a Notice of Intent (NOI) for the proposed 1,800-megawatt Gregory County Pumped Storage Project. The project would have been located at the U.S. Army Corps of Engineers' Lake Francis Case on the Missouri River in Gregory and Charles Mix Counties, South Dakota. On May 23, 2023, Western Minnesota Power filed a letter informing the Commission that it was withdrawing its NOI for the above-referenced project.

Pursuant to Rule 216(b) of the Commission's Rules of Practice and Procedure,¹ a withdrawal of a pleading is effective at the end of 15 days from the date of filing the notice of withdrawal. No motion in opposition to the notice of withdrawal has been filed, and the Commission has taken no action to disallow the withdrawal; thus, the withdrawal is effective on June 7, 2023.

¹ 18 CFR 385.216(b) (2022).

Dated: June 8, 2023.
Debbie-Anne A. Reese,
Deputy Secretary.

[FR Doc. 2023-12733 Filed 6-13-23; 8:45 am]

BILLING CODE 6717-01-P